INTERNATIONAL TRADE COMMISSION

[USITC SE-04-024]

Government in the Sunshine Act Meeting; Cancellation of Commission Meeting

AGENCY: United States International Trade Commission.

Original Date: September 21, 2004.

Original Time: 2 p.m.

Place: Room 101, 500 E Street SW., Washington, DC 20436, Telephone: (202) 205-2000.

Status: Open to the public.

In accordance with 19 CFR 201.35(d)(1), the Commission has determined to cancel the meeting which was scheduled for September 21, 2004 at 2 p.m. The meeting will be rescheduled at a later date. Earlier notification of this action was not possible.

Issued: September 16, 2004.
By order of the Commission.
Marilyn R. Abbott,
Secretary to the Commission.

[FR Doc. 04-21237 Filed 9-16-04; 4:06 pm]

BILLING CODE 7020-02-P